DEPARTMENT OF THE INTERIOR

Fish and Wildlife Service

Endangered and Threatened Wildlife: Extension of Comment Period on Draft Environmental Assessment and Application for an Incidental Take Permit of the Atlantic Coast Piping Plover in Massachusetts

AGENCY: Fish and Wildlife Service, Interior.

ACTION: Notice; extension of comment period.

SUMMARY: The Fish and Wildlife Service provides notice to extend the public comment period on the draft Environmental Assessment and the Massachusetts Division of Fisheries and Wildlife application to the U.S. Fish and Wildlife Service (Service) for an incidental take permit pursuant to Section 10(a)(1)(B) of the Endangered Species Act (Act). The requested permit, which is for a period of three years, would authorize the incidental take of the threatened piping plover (Charadrius melodus) in Massachusetts. The proposed take would occur as a result of specific actions relating to the management of recreational use of beaches where breeding piping plovers are found. All interested parties are invited to submit comments on these proposals.

DATES: Written comments on the application and draft EA must be received no later than July 3, 2000.

ADDRESSES: Written comments regarding the draft EA and application should be addressed to Field Supervisor, New England Field Office, 22 Bridge St., Unit 1, Concord, New Hampshire 03301-4986, telephone (603) 225-1411. Comments regarding the conservation plan will be forwarded to the Massachusetts Division of Fisheries and Wildlife for review and response.

FOR FURTHER INFORMATION CONTACT: Susanna L. von Oettingen at the above address.

SUPPLEMENTARY INFORMATION: The Atlantic Coast piping plover was listed as a threatened species on January 10, 1986. Because of its listing as threatened, the piping plover is protected by the Act's prohibitions against “take”. However, the Service may issue permits to carry out otherwise prohibited activities involving endangered and threatened wildlife under certain circumstances. For threatened species, such permits are available for scientific purposes, incidental take, or special purposes consistent with the purposes of the Act.

The Massachusetts Division of Fisheries and Wildlife has applied to the Service for an incidental take permit pursuant to Section 10(a)(1)(B) of the Act. This permit would authorize the incidental take of piping plovers through otherwise lawful activities occurring on plover breeding beaches. Included in the application is a conservation plan prepared by the Division detailing the activities that would result in incidental take and describing measures that mitigate, minimize and monitor the amount of take.

The purpose of the proposed incidental take permit is to provide increased flexibility in managing Massachusetts beaches for use by recreationists and homeowners, while assuring continued progress toward the recovery of the Massachusetts and Atlantic Coast populations of the piping plover. The additional flexibility in managing beaches will prevent a disproportionate expenditure of resources directed at the protection of a few nests or broods in areas where they may significantly disrupt beach access by large numbers of people and be highly vulnerable to disturbance and/or mortality. Management flexibility also will create incentives for the continued participation by beach management agencies and organizations involved in protecting piping plovers.

On May 18, 2000, the Service published a notice of availability of the draft EA and receipt of an application for an incidental take permit for the Atlantic coast piping plover in Massachusetts. The public comment period originally was announced to close on June 19, 2000. Because of several requests for additional time, the Service is extending the public comment period to July 3, 2000.

Dated: June 19, 2000.
Margaret T. Kolar,
Acting Deputy Regional Director.

[FR Doc. 00-15890 Filed 6-22-00; 8:45 am]

BILLING CODE 4310-55-U